DEPARTMENT OF HEALTH AND HUMAN SERVICES

Centers for Disease Control and Prevention

[30Day-08-06BS]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

OWCD Professional Training Program Online Application System—New—Office of Workforce and Career Development (OWCD), Centers for Disease Control and Prevention (CDC).

Background and Brief Description

The mission of the Career Development Division (CDD), Office of Workforce and Career Development (OWCD), is to prepare an applied public health workforce through training and service. Professionals in public health, epidemiology, medicine, economics, information science, veterinary medicine, nursing, public policy and other related professions seek opportunities to broaden their knowledge and skills to improve the science and practice of public health. Each year CDC's professional training programs receive approximately 685 applications from potential candidates for review and selection. Approximately 230 fellows graduate from these programs each year, and there are approximately 2,700 Epidemic Intelligence Service (EIS) and Preventive Medicine Residency/Fellow (PMR/F) alumni.

The purpose of this project is to efficiently and effectively recruit and select qualified individuals to participate in the CDD professional training programs by collecting information through an online application management system. Alumni of these programs will be asked to update their profiles every three years.

This online application provides the CDD with the information necessary to recruit qualified professionals to participate in public health professions training programs to build critical public health workforce capacity in epidemiology, preventive medicine, prevention effectiveness/health economics, public health informatics, and public health management and leadership. Further benefit from this online application is the reduction of duplicate candidate records as well as agency resources to administer and process paper records.

The application process includes the following: Submission of the responses to the questions in the online application; submission of academic transcripts, professional credentials, and letters of recommendation; a review by selected programmatic staff and expert panel members; selection of qualified candidates for interview; interview of candidates; and selection of trainees for programs.

The online application questions ask for demographic data, academic history, professional experience, references and description of professional goals. The application questions and data collected are necessary to the application process to determine programmatic eligibility and to ensure that the most highly qualified candidates are chosen for the training programs.

With the exception of their time, the cost to the candidates is minor. One expense depends on their academic institutions since they must obtain and submit all their academic transcripts. Another expense depends on the cost to obtain and submit other professional credentials including professional licenses and certifications. The final expense is the cost to submit letters of recommendation. The total estimated annualized burden in hours is 740.

Estimated Annualized Burden
Respondents | Number of respondents | Number of responses per respondent | Average burden per response (in hours)
Fellowship Applicants | 685 | 1 | 40/60
Fellowship and EIS-PMR/F Alumni | 1130 | 1 | 15/60

Dated: October 25, 2007.
Maryam I. Daneshvar,
Acting Reports Clearance Officer, Centers for Disease Control and Prevention.

[FR Doc. E7-21423 Filed 10-30-07; 8:45 am]

BILLING CODE 4163-18-P